DEPARTMENT OF THE INTERIOR

National Park Service

National Register of Historic Places; Notification of Pending Nominations and Related Actions

Nominations for the following properties being considered for listing or related actions in the National Register were received by the National Park Service before April 14, 2007. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by May 15, 2007.

J. Paul Loether,
Chief National Register of Historic Places/National Historic Landmarks Program.

ARKANSAS

Arkansas County

Gillett Jail, Old, 207 Main St., Gillett, 07000440

Benton County

Pea Ridge Commercial Historic District, (Benton County MRA) Pickens St. roughly beT. Greene St. and Davis St. and Curtis Ave. roughly bet. Pike St. and Macintosh St., Pea Ridge, 07000445

Desha County

Dumas Commercial Historic District, South Main St. bet. Choctaw and Waterman Sts., Dumas, 07000446

Independence County

Ruddell Mill Site, Address Restricted, Batesville, 07000434

Jackson County

Tuckerman Water Tower, (New Deal Recovery Efforts in Arkansas MPS) South End of Front St., Tuckerman, 07000443

Jefferson County

Central Texas Gravel Locomotive #210, 1700 Port Rd., Pine Bluff, 07000442 DODX Guard Car #G-56, 1700 Port Rd., Pine Bluff, 07000441

Wabash Alloys Locomotive, 1700 Port Rd., Pine Bluff, 07000444

Miller County

Beech Street Brick Street, Beech St. bet. 14th and 24th Sts., Texarkana, 07000438

Pulaski County

South Main Street Commercial Historic District, South Main St. from 12th St. to 17th St., Little Rock, 07000435

South Main Street Residential Historic District, South Main St. from 19th St. to 24th St., Little Rock, 07000436

Sebastian County

Arkansas 22, Old, Barling Segment, (Arkansas Highway History and Architecture MPS) Mayo Rd, Barling, 07000439

Yell County

Mickles Bridge, (Historic Bridges of Arkansas MPS) Spanning the Petit Jean R., 0.25 mi. N of AR 10 and approx. one mi. W of Yell County Rd. 49, Mickles, 07000437

DISTRICT OF COLUMBIA

District of Columbia

Grant, Ulysses S., School, (Public School Buildings of Washington, DC MPS) 2130 G St. NW, Washington, 07000447

Hayes, Rutherford B., School, (Public School Buildings of Washington, DC MPS) 5th and K Sts. NE, Washington, 07000449

Uline Ice Company Plant and Arena Complex, 1132, 1140, and 1146 3rd St. NE, Washington, 07000448

ILLINOIS

Cook County

Building at 399 West Fullerton Parkway, 399 W. Fullerton Ave., Chicago, 07000456

Rees, Harriet F., House, 2110 S. Prairie Ave., Chicago, 07000458

Steuben Club, The, 188 W. Randolph St., Chicago, 07000457

Ford County

Dunnan—Hampton House, 511 W. Pells St., Paxton, 07000455

Logan County

Hoblit House, 505 N. College Ave., Lincoln, 07000454

McHenry County

Geister, Christian, House, 302 S. Main St., Algonquin, 07000453

IOWA

Dickinson County

Antlers Hotel, 1703 Hill Ave., Spirit Lake, 07000452

Ringgold County

Beaconsfield Supply Store, 1621 Main St., Beaconsfield, 07000451

LOUISIANA

Calcasieu Parish

Muller's Department Store (Boundary Increase), 619 Ryan St., Lake Charles, 07000433

MINNESOTA

Dakota County

Holz Family Farmstead, 4665 Manor Dr., Eagan, 07000459

St. Louis County

Stuntz Bay Boathouse Historic District, At the northern of Stuntz Bay Rd., Breitung Township, 07000460

MISSOURI

Pulaski County

Osage Hills School, 1110 Glenwood S, Kirkwood, 07000462

St. Louis Independent City

General American Life Insurance Company National Headquarters, 706 Market St., St. Louis (Independent City), 07000461

Lowell School, 1409 E. Linton, St. Louis (Independent City), 07000464

Watcher Motor Car Company Building, (Auto-Related Resources of St. Louis, Missouri MPS) 2600-2614 Nebraska Ave., St. Louis (Independent City), 07000463

MONTANA

Fergus County

Hogeland, Abraham and Mary Walton, House, (Lewistown MRA) 620 W. Montana St., Lewistown, 07000465

PENNSYLVANIA

Adams County

Horner House and Barn, 20 Horner Rd., Cumberland Township, 07000468

Delaware County

Chester Waterside Station of the Philadelphia Electric Company, 2501 Seaport Dr., Chester, 07000467

Washington County

Wright, Enoch, House, 815 Venetia Rd., Peters Township, 07000466

[FR Doc. E7-8124 Filed 4-27-07; 8:45 am]

BILLING CODE 4312-51-P